DEPARTMENT OF THE INTERIOR

National Park Service

Notice of Inventory Completion for Native American Human Remains and Associated Funerary Objects in the Control of the California State Department of Transportation (CALTRANS), Sacramento, CA, and in the Possession of the Department of Anthropology, San Francisco State University, San Francisco, CA

AGENCY: National Park Service, Interior.

ACTION: Notice.

Notice is hereby given in accordance with provisions of the Native American Graves Protection and Repatriation Act (NAGPRA), 43 CFR 10.9, of the completion of an inventory of human remains and associated funerary objects in the control of the California State Department of Transportation (CALTRANS), Sacramento, CA, and in the possession of the Department of Anthropology, San Francisco State University, San Francisco, CA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by San Francisco State University Department of Anthropology and CALTRANS professional staffs in consultation with representatives of the Indians of the Graton Rancheria of California.

During 1965-1966, human remains representing a minimum of 19 individuals were recovered from site CA-MRN-***, Marin County, CA, during legally authorized salvage excavations for CALTRANS conducted by C. McNeath, T. King, and M. Moratto of San Francisco State University, San Francisco, CA. No known individuals were identified. The 104 associated funerary objects include flaked stone, groundstone, bone tools, chert scrapers, 1 glass scraper, shell ornaments, and baked clay.

Site CA-MRN-192 is located within documented Coast Miwok territory. Based on the associated funerary objects, these individuals have been identified as Native American. Based on the artifact assemblage, site CA-MRN-192 was occupied from Middle Horizon to Late Horizon Phase II (circa B.C.E. 2000-1500) to Euro-American contact. Based on archeological and linguistic research, these human remains and associated funerary objects may likely represent Penutian-speaking Coast Miwok inhabitants of Marin County, CA. Consultation with representatives of the Indians of Graton Rancheria of California confirms that these human remains and associated funerary objects are affiliated with the Coast Miwok represented by the Indians of the Graton Rancheria of California.

Based on the above-mentioned information, officials of CALTRANS have determined that, pursuant to 43 CFR 10.2 (d)(1), the human remains listed above represent the physical remains of a minimum of 19 individuals of Native American ancestry. Officials of CALTRANS also have determined that, pursuant to 43 CFR 10.2 (d)(2), the 104 objects listed above are reasonably believed to have been placed with or near individual human remains at the time of death or later as part of the death rite or ceremony. Lastly, officials of CALTRANS have determined that, pursuant to 43 CFR 10.2 (e), there is a relationship of shared group identity that can be reasonably traced between these Native American human remains and associated funerary objects and the Indians of the Graton Rancheria of California.

This notice has been sent to officials of the Indians of the Graton Rancheria of California. Representatives of any other Indian tribe that believes itself to be culturally affiliated with these human remains and associated funerary objects should contact Tina Biorn, California State Department of Transportation, P.O. Box 942874 (M.S. 27), Sacramento, CA 94274-0001, telephone (916) 653-0013, before December 5, 2001. Repatriation of the human remains and associated funerary objects to the Indians of the Graton Rancheria of California may begin after that date if no additional claimants come forward.

Dated: September 28, 2001.
John Robbins,
Assistant Director, Cultural Resources Stewardship and Partnerships.

[FR Doc. 01-27705 Filed 11-2-01; 8:45 am]

BILLING CODE 4310-70-S